DEPARTMENT OF THE TREASURY

Internal Revenue Service

Taxpayer Advocacy Panel Meeting Cancellation

AGENCY: Internal Revenue Service (IRS), Treasury.

ACTION: Notice of meeting cancellation.

SUMMARY: Notice is hereby given of the cancellation of the open meeting of the Taxpayer Advocacy Panel Tax Forms and Publications Project Committee scheduled for Wednesday, December 11, 2013 at 11:00 a.m. Eastern Time via teleconference, which was originally published in the Federal Register on November 21, 2013, (Volume 78, Number 225, Page 69940).

The meeting is cancelled pending appointment of new members for the Panel.

FOR FURTHER INFORMATION CONTACT: Marisa Knispel at 1-888-912-1227 or 718-834-2203.

Dated: December 2, 2013.
Otis Simpson,
Acting Director, Taxpayer Advocacy Panel.

[FR Doc. 2013-29108 Filed 12-5-13; 8:45 am]

BILLING CODE 4830-01-P